DEPARTMENT OF ENERGY

Federal Energy Regulatory Commission

[Project No. 12766-007]

Notice of Application Tendered for Filing With the Commission and Soliciting Additional Study Requests and Establishing Procedural Schedule for Relicensing and a Deadline for Submission of Final Amendments: Green Mountain Power Corporation

Take notice that the following hydroelectric application has been filed with the Commission and is available for public inspection.

a. Type of Application: New License for Transmission Line Project.

b. Project No.: 12766-007.

c. Date filed: November 22, 2019.

d. Applicant: Green Mountain Power Corporation (Green Mountain Power).

e. Name of Project: Clay Hill Road Line 66 Transmission Project.

f. Location: Along Clay Hill Road in the town of Hartland, Windsor County, Vermont. No federal lands are occupied by the project works or located within the project boundary.

g. Filed Pursuant to: Federal Power Act 16 U.S.C. 791(a)-825(r).

h. Applicant Contact: John Greenan, Green Mountain Power Corporation, 2152 Post Road, Rutland, VT 05701; Phone at (802) 770-2195, or email at John.Greenan@greenmountainpower.com.

i. FERC Contact: Bill Connelly at (202) 502-8587, or william.connelly@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 21, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12766-007.

m. The application is not ready for environmental analysis at this time.

n. Project Description: The existing Clay Hill Road Line 66 Transmission Project consists of: (1) A 2.3-mile-long, 12.5-kilovolt, three-phase electrical line mounted on top of Green Mountain Power Corporation's regional distribution line (Line 66) along Clay Hill Road from Pole 115 to 62x; and (2) appurtenant facilities. The project serves as a primary transmission line for the North Hartland Project No. 2816.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—January 2020

Request Additional Information—January 2020

Issue Acceptance Letter—April 2020

Issue Scoping Document 1 for comments—May 2020

Request Additional Information (if necessary)—July 2020

Issue Scoping Document 2—August 2020

Issue Notice of Ready for Environmental Analysis—August 2020

Commission issues Environmental Assessment—February 2021

Final amendments to the application must be filed with the Commission no later than 30 days from the issuance date of the notice of ready for environmental analysis.

Dated: December 6, 2019.
Nathaniel J. Davis, Sr.,
Deputy Secretary.

[FR Doc. 2019-26765 Filed 12-11-19; 8:45 am]

BILLING CODE 6717-01-P